DEPARTMENT OF HEALTH AND HUMAN SERVICES

National Institutes of Health

Prospective Grant of Start-up Exclusive License: Kits for the Detection of Human Interferon-Alpha Subtypes and Allotypes

AGENCY: National Institutes of Health, HHS.

ACTION: Notice.

SUMMARY: This is notice, in accordance with 35 U.S.C. 209 and 37 CFR 404, that the National Institutes of Health (NIH), Department of Health and Human Services, is contemplating the grant of a start-up exclusive license to practice the inventions embodied in: US provisional application No. 61/116,563, filed November 20, 2008, PCT application No. PCT/US2009/65382, filed November 20, 2009; and corresponding National Phase filings in the US, EP, AU, CA, IL, JP and HK (NIH Ref. E-157-2008/0), titled “Compositions for Detecting Human Interferon-Alpha Subtypes and Methods of Use”, to IES Diagnostics, LLC having a place of business at 12 Upper Drive, Watchung, NJ 07069. The patent rights in these inventions have been assigned to the United States of America.

DATES: Only written comments and/or application for a license that are received by the NIH Office of Technology Transfer on or before August 16, 2013 will be considered.

ADDRESSES: Requests for a copy of the patent application, inquiries, comments and other materials relating to the contemplated license should be directed to: Cristina Thalhammer-Reyero, Ph.D., M.B.A., Office of Technology Transfer, National Institutes of Health, 6011 Executive Boulevard, Suite 325, Rockville, MD 20852-3804; Email: thalhamc@mail.nih.gov; Telephone: 301-435-4507; Facsimile: 301-402-0220.

SUPPLEMENTARY INFORMATION: The prospective start-up exclusive license will be royalty bearing and will comply with the terms and conditions of 35 U.S.C. 209 and 37 CFR part 404. The prospective exclusive license may be granted unless, within fifteen (15) days from the date of this published Notice, NIH receives written evidence and argument that establishes that the grant of the license would not be consistent with the requirements of 35 U.S.C. 209 and 37 CFR part 404.

This technology relates to use of kits for the detection of human interferon-alpha subtypes and allotypes.

The proposed field of exclusivity may be limited to the commercialization of the kits for diagnostic and prognostic uses that are regulated by the FDA or equivalent agencies in other countries.

Properly filed competing applications for a license filed in response to this notice will be treated as objections to the contemplated license. Comments and objections submitted in response to this notice will not be made available for public inspection, and, to the extent permitted by law, will not be released under the Freedom of Information Act, 5 U.S.C. 552.

Dated: July 26, 2013.
Richard U. Rodriguez,
Director, Division of Technology Development and Transfer, Office of Technology Transfer.

[FR Doc. 2013-18452 Filed 7-31-13; 8:45 am]

BILLING CODE 4140-01-P